ENVIRONMENTAL PROTECTION AGENCY

40 CFR Part 52

[EPA-R04-OAR-2015-0623; FRL-9951-32-Region 4]

Air Plan Approval; FL: Nassau Area; SO2 Attainment Demonstration

AGENCY: Environmental Protection Agency.

ACTION: Proposed rule.

SUMMARY: The Environmental Protection Agency (EPA) is proposing to approve a State Implementation Plan (SIP) revision, submitted by the State of Florida through the Florida Department of Environmental Protection (FL DEP), to EPA on April 3, 2015, for the purpose of providing for attainment of the 2010 Sulfur Dioxide (SO2) National Ambient Air Quality Standards (NAAQS) in the Nassau County SO2 nonattainment area (hereafter referred to as the “Nassau Area” or “Area”). The Nassau Area is comprised of a portion of Nassau County in Florida surrounding the Rayonier Performance Fibers, LLC sulfite pulp mill (hereafter referred to as “Rayonier”). The attainment plan includes the base year emissions inventory, an analysis of the reasonably available control technology (RACT) and reasonably available control measures (RACM), a reasonable further progress (RFP) plan, a modeling demonstration of SO2 attainment, and contingency measures for the Nassau Area. As a part of approving the attainment demonstration, EPA is also proposing to approve into the Florida SIP the SO2 emissions limits and associated compliance parameters. This action is being taken in accordance with Clean Air Act (CAA or Act) and EPA's guidance related to SO2 attainment planning.

DATES: Comments must be received on or before September 22, 2016.

ADDRESSES: Submit your comments, identified by Docket ID No. EPA-R04-OAR-2015-0623 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: D. Brad Akers, Air Regulatory Management Section, Air Planning and Implementation Branch, Air, Pesticides and Toxics Management Division, U.S. Environmental Protection Agency, Region 4, 61 Forsyth Street SW., Atlanta, Georgia 30303-8960. Mr. Akers can be reached via electronic mail at akers.brad@epa.gov or via telephone at (404)562-9089.

SUPPLEMENTARY INFORMATION:

Table of Contents

I. What action is EPA proposing to take?

II. What is the background for EPA's proposed action?

III. What is included in Florida's attainment plan for the Nassau Area?

IV. What is EPA's analysis of Florida's attainment plan for the Nassau Area?

A. Pollutants Addressed

B. Emissions Inventory Requirements

C. Air Quality Modeling

D. RACM/RACT

E. RFP Plan

F. Contingency Measures

G. Attainment Date

V. Proposed Action

VI. Statutory and Executive Order Reviews

I. What action is EPA proposing to take?

EPA is proposing to approve Florida's SIP revision for the Nassau Area, as submitted through FL DEP to EPA on April 3, 2015, for the purpose of demonstrating attainment of the 2010 1-hour SO2 NAAQS. Specifically, EPA is proposing to approve the base year emissions inventory, a modeling demonstration of SO2 attainment, an analysis of RACM/RACT, a RFP plan, and contingency measures for the Nassau Area. Additionally, EPA is proposing to approve specific SO2 emission limits and compliance parameters established for the two SO2 sources impacting the Nassau Area into the Florida SIP.

EPA has preliminarily determined that Florida's SO2 attainment plan for the 2010 1-hour SO2 NAAQS for Nassau County meets the applicable requirements of the CAA and EPA's SO2 Nonattainment Guidance.¹ Moreover, the Nassau Area is currently showing a design value below the 2010 SO2 NAAQS, having implemented most of the control measures included in the SIP submittal. Thus, EPA is proposing to approve Florida's attainment plan for the Nassau Area as submitted on April 3, 2015. EPA's analysis for this proposed action is discussed in Section IV of this proposed rulemaking.

¹ EPA's April 23, 2014 memorandum entitled “Guidance for the 1-Hour SO2 Nonattainment Area SIP Submissions,” hereafter referred to as the “SO2 Nonattainment Guidance.”

II. What is the background for EPA's proposed action?

On June 2, 2010, the EPA Administrator signed a final rule establishing a new SO2 NAAQS as a 1-hour standard of 75 parts per billion (ppb), based on a 3-year average of the annual 99th percentile of 1-hour daily maximum concentrations. See 75 FR 35520 (June 22, 2010). This action also revoked the existing 1971 annual standard and 24-hour standards, subject to certain conditions.² EPA established the NAAQS based on significant evidence and numerous health studies demonstrating that serious health effects are associated with short-term exposures to SO2 emissions ranging from 5 minutes to 24 hours with an array of adverse respiratory effects including narrowing of the airways which can cause difficulty breathing (bronchoconstriction) and increased asthma symptoms. For more information regarding the health impacts of SO2, please refer to the June 22, 2010 final rulemaking. See 75 FR 35520. Following promulgation of a new or revised NAAQS, EPA is required by the CAA to designate areas throughout the United States as attaining or not attaining the NAAQS; this designation process is described in section 107(d)(1) of the CAA. On August 5, 2013, EPA promulgated initial air quality designations of 29 areas for the 2010 SO2 NAAQS (78 FR 47191), which became effective on October 4, 2013, based on violating air quality monitoring data for calendar years 2009-2011, where there was sufficient data to support a nonattainment designation.³

² EPA's June 22, 2010 final action revoked the two 1971 primary 24-hour standard of 140 ppb and the annual standard of 30 ppb because they were determined not to add additional public health protection given a 1-hour standard at 75 ppb. See 75 FR 35520. However, the secondary 3-hour SO2 standard was retained. Currently, the 24-hour and annual standards are only revoked for those areas the EPA has already designated for the 2010 1-hour SO2 NAAQS in August 2013 and June 30, 2016, including the Nassau Area. See 40 CFR 50.4(e).

³ EPA is continuing its designation efforts for the 2010 SO2 NAAQS. Pursuant to a court-ordered consent decree finalized March 2, 2015, in the U.S. District Court for the Northern District of California, EPA must complete the remaining designations for the rest of the country on a schedule that contains three specific deadlines. By July 2, 2016, EPA must designate areas specified in the March 2, 2015 consent decree based on specific emission criteria. Sierra Club, et al. v. Environmental Protection Agency, 13-cv-03953-SI (2015). The last two deadlines for completing designations, December 2017 and December 2020 are expected to be informed by information required pursuant the “Data Requirements Rule for the 2010 1-Hour Sulfur Dioxide (SO2) Primary National Ambient Air Quality Standard (NAAQS); Final Rule,” or “Data Requirements Rule.” See 80 FR 51052 (August 21, 2015). http://www.epa.gov/airquality/sulfurdioxide/designations/pdfs/201503Schedule.pdf. On June 30, 2016, EPA designated a total of 61 areas for the 2010- 1-hour SO2 standard as part of the 2nd round of designations pursuant to the March 2, 2015 consent decree. See 81 FR 45039.

Effective on October 4, 2013, the Nassau Area was designated as nonattainment for the 2010 SO2 NAAQS for an area that encompasses the primary SO2 emitting source Rayonier sulfite pulp mill and the nearby SO2 monitor (Air Quality Site ID: 12-089-0005). The October 4, 2013, final designation triggered a requirement for Florida to submit a SIP revision with a plan for how the Area would attain the 2010 SO2 NAAQS as expeditiously as practicable, but no later than October 4, 2018, in accordance with CAA section 172(b).

The required components of a nonattainment plan submittal are listed in section 172(c) of part D of the CAA. The base year emissions inventory (section 172(c)(3)) is required to show a “comprehensive, accurate, current inventory” of all relevant pollutants in the nonattainment area. The nonattainment plan must identify and quantify any expected emissions from the construction of new sources to account for emissions in the area that might affect RFP toward attainment, or with attainment and maintenance of the NAAQS, and provide for a nonattainment new source review (NNSR) program (section 172(c)(5)). The attainment demonstration must include a modeling analysis showing that the enforceable emissions limitations and other control measures taken by the state will provide for expeditious attainment of the NAAQS (section 172(c)). The nonattainment plan must include an analysis of the RACM considered, including RACT (section 172(c)(1)). RFP for the nonattainment area must be addressed in the submittal. Finally, the nonattainment plan must provide for contingency measures (section 172(c)(9)) to be implemented in the case that RFP toward attainment is not made, or the area fails to attain the NAAQS by the attainment date.

III. What is included in Florida's attainment plan for the Nassau Area?

In accordance with section 172(c) of the CAA, the Florida attainment plan for the Nassau Area includes: (1) An emissions inventory for SO2 for the plan's base year (2011); and (2) an attainment demonstration. The attainment demonstration includes: Technical analyses that locate, identify, and quantify sources of emissions contributing to violations of the 2010 SO2 NAAQS; a declaration that FL DEP is unaware of any future growth in the area that would be subject to CAA 173,⁴ and the assertion that the NNSR program approved in the SIP at Section 62-252.500, Florida Administrative Code (F.A.C.) would account for any such growth; a modeling analysis of an emissions control strategy for the Rayonier sulfite pulp mill ⁵ and a nearby source, the WestRock CP, LLC kraft pulp mill (formerly RockTenn kraft pulp mill) ⁶ (hereafter referred to as “WestRock”), that attains the SO2 NAAQS by the October 4, 2018 attainment date; a determination that the control strategy for the primary SO2 source within the NAA constitutes RACM/RACT; adherence to a construction schedule to ensure emissions reductions are achieved as expeditiously as practicable; a request from FL DEP that emissions reduction measures including system upgrades and/or emissions limitations with schedules for implementation and compliance parameters be incorporated into the SIP; and contingency measures.⁷

⁴ The CAA new source review (NSR) program is composed of three separate programs: Prevention of significant deterioration (PSD), NNSR, and Minor NSR. PSD is established in part C of title I of the CAA and applies in areas that meet the NAAQS—“attainment areas”—as well as areas where there is insufficient information to determine if the area meets the NAAQS—“unclassifiable areas.” The NNSR program is established in part D of title I of the CAA and applies in areas that are not in attainment of the NAAQS—“nonattainment areas.” The Minor NSR program addresses construction or modification activities that do not qualify as “major” and applies regardless of the designation of the area in which a source is located. Together, these programs are referred to as the NSR programs. Section 173 of the CAA lays out the NNSR program for preconstruction review of new major sources or major modifications to existing sources, as required by CAA section 172(c)(5). The programmatic elements for NNSR include, among other things, compliance with the lowest achievable emissions rate and the requirement to obtain emissions offsets.

⁵ Rayonier processes high purity wood pulp used in manufacturing photographic films, filters, rayon fabric and other industrial and consumer products.

⁶ The new company name of WestRock reflects the recent merger between companies MeadWestCo and RockTenn. FL DEP issued an administrative revision to the operating permit, revision number 0890003-048-AV, on August 19, 2015 to reflect this administrative change in company name. The April 3, 2015, final SIP submittal was prior to this merger, and therefore refers to WestRock as RockTenn. WestRock produces various containerboard products.

⁷ General Conformity pursuant to CAA section 176(c) requires that actions by federal agencies do not cause new air quality issues or delay or interfere with attainment of a NAAQS. With respect to the Nassau nonattainment area federal agencies must work with the state to ensure that federal actions conform to the air quality plans established in the applicable SIP that ensures attainment of the SO2 NAAQS.

IV. What is EPA's analysis of Florida's attainment plan for the Nassau Area?

Consistent with CAA requirements (see, e.g., section 172), an attainment demonstration for a SO2 nonattainment area must include a showing that the area will attain the 2010 SO2 NAAQS as expeditiously as practicable. The demonstration must also meet the requirements of 40 Code of Federal Regulations (CFR) 51.112 and Part 51, Appendix W, and include inventory data, modeling results, and emissions reduction analyses on which the state has based its projected attainment. In the case of the Nassau Area, 2013-2015 quality-assured and certified air quality data indicated a design value below the 2010 1-hour SO2 NAAQS. EPA is proposing that the attainment plan submitted by Florida is sufficient, and EPA is proposing to approve the plan to assure ongoing attainment.

A. Pollutants Addressed

Florida's SO2 attainment plan evaluates SO2 emissions for the portion of Nassau County that is designated nonattainment for the 2010 SO2 NAAQS. There are no significant precursors to consider for the SO2 attainment plan. SO2 is a pollutant that arises from direct emissions, and therefore concentrations are highest relatively close to the source(s) and much lower at greater distances due to dispersion. See SO2 Nonattainment Guidance. Thus, SO2 concentration patterns resemble those of other directly emitted pollutants like lead and differ from those of photochemically-formed (secondary) pollutants such as ozone. The two sources included in FL DEP's SIP to address the Nassau Area and their operations are briefly described later in this preamble. As the Nassau Area includes one such major point source of SO2 and one source just outside the Area, it is expected that an attainment demonstration addressing SO2 emissions at these two sources will effectively ensure that the Area will attain by the attainment date of October 4, 2018.

B. Emissions Inventory Requirements

States are required under section 172(c)(3) of the CAA to develop comprehensive, accurate and current emissions inventories of all sources of the relevant pollutant or pollutants in the area. These inventories provide a detailed accounting of all emissions and emission sources by precursor or pollutant. In addition, inventories are used in air quality modeling to demonstrate that attainment of the NAAQS is as expeditious as practicable. The April 23, 2014, SO2 Nonattainment Guidance provides that the emissions inventory should be consistent with the Air Emissions Reporting Requirements (AERR) at Subpart A to 40 CFR part 51.⁸

⁸ The AERR at Subpart A to 40 CFR part 51 cover overarching federal reporting requirements for the states to submit emissions inventories for criteria pollutants to EPA's Emissions Inventory System. The EPA uses these submittals, along with other data sources, to build the National Emissions Inventory.

For the base year inventory of actual emissions, a “comprehensive, accurate and current,” inventory can be represented by a year that contributed to the three-year design value used for the original nonattainment designation. The final SO2 Nonattainment Guidance notes that the base year inventory should include all sources of SO2 in the nonattainment area as well as any sources located outside the nonattainment area which may affect attainment in the area. Florida elected to use 2011 as the base year. Actual emissions from all sources of SO2 in the Nassau Area were reviewed and compiled for the base year emissions inventory. Emissions from all stationary sources of SO2 located in the Nassau Area were estimated and included in the inventory, and a source outside the Area that FL DEP determined caused or contributed to elevated SO2 concentrations within the nonattainment area was also included.

The primary SO2-emitting point source located within the Nassau Area is the Rayonier sulfite pulp mill, which produces films, fibers and fabrics among other consumer products. Rayonier consists of three main SO2 emitters:

• Emissions Unit (EU) 005 (Rayonier EU 005) is the vent gas scrubbing system, which handles emissions from numerous vents from the cooking acid plant, the red stock washers, the unwashed stock tank, the spent sulfite liquor storage tanks, the spent sulfite liquor washer area, the digesters, and the blow pits;

• Rayonier EU 006 is the sulfite recovery boiler, which fires spent liquor to produce combustion gases that contain recoverable SO2 and heat for steam generation;

• Rayonier EU 022 is the power boiler, which fires biomass and No. 6 fuel oil to produce heat for steam generation; and

• Rayonier EU 005 is itself a control technology, utilizing a wet alkaline absorbing section for SO2 removal, while Rayonier EU 006 and EU 022 each have wet alkaline scrubbers in place.

The emissions at all units for the Rayonier facility were recorded using data collected from continuous emissions monitoring systems (CEMS) and are quality-assured by FL DEP.

The largest SO2 source within 25 kilometers (km) outside the Nassau Area is WestRock. The WestRock facilities consist of five main SO2 emitters:

• Emissions Unit 006 (WestRock EU 006) is the No. 5 power boiler, which fires biomass and No. 6 fuel oil to produce heat for steam generation;

• WestRock EUs 007 and 011 are recovery boilers, which fire black liquor solids to produce heat for steam generation and recover process chemicals;

• WestRock EU 015 is the No. 7 power boiler, which fires coal, oil and/or natural gas to produce heat for steam generation; and

• WestRock EU 021 is a lime kiln, which burns low volume, high density non-condensable gases (NCGs) from several units across the plant in addition to its primary purpose of converting calcium carbonate to lime.

WestRock EU 006 currently serves as a backup control device for NCGs that pass through WestRock EU 021.

Emissions from the WestRock facility were collected via CEMS or calculated. Specifically, WestRock EUs 007, 011, and 015 did not previously have CEMS installed. In this instance, the emission rates of SO2 were calculated, as shown in Appendix B of the April 3, 2015, submittal. For WestRock EU 015, the hourly feed rates of coal, fuel oil and/or natural gas burned are included along with the particular emission factors used to calculate the SO2 emissions rates. For WestRock EUs 007 and 011, the hourly rates of the black liquor solids and/or oil burned are included along with the particular emission factors used to calculate the SO2 emissions rates.

Pursuant to Florida's SIP-approved regulations at Chapter 62-210.370, F.A.C., paragraph (3), FL DEP collects annual operating reports (AORs), incorporated by reference into the SIP at 62-210.900(5), from all major sources. These AORs were used to develop the base year inventory for actual emissions for the point sources and satisfy the AERR. FL DEP utilized EPA's 2011 National Emissions Inventory (NEI), Version 2 to obtain estimates of the area and nonroad sources. For onroad mobile source emissions, FL DEP utilized EPA's Motor Vehicle Emissions Simulator (MOVES2014). A more detailed discussion of the emissions inventory development for the Nassau Area can be found in Florida's April 3, 2015, submittal.

Table 1 shows the level of emissions, expressed in tpy, in the Nassau Area for the 2011 base year by emissions source category. The point source category includes WestRock, outside the Nassau Area, but determined by FL DEP to contribute to nonattainment.

Table 1—2011 Base Year Emissions Inventory for the Nassau Area
[tpy]
Year | Point | Onroad | Nonroad | Area | Total
2011 | 4,278.64 | 0.08 | 0.09 | 0.39 | 4,279.20

EPA has evaluated Florida's 2011 base year emissions inventory for the Nassau Area and has made the preliminary determination that this inventory was developed consistent with EPA's guidance. Therefore, pursuant to section 172(c)(3), EPA is proposing to approve Florida's 2011 base year emissions inventory for the Nassau Area.

The attainment demonstration also provides for a projected attainment year inventory that includes estimated emissions for all emission sources of SO2 which are determined to impact the nonattainment area for the year in which the area is expected to attain the standard. This inventory must address any future growth in the Area. Growth means any potential increases in emissions of the pollutant for which the Nassau Area is nonattainment (SO2) due to the construction and operation of new major sources, major modifications to existing sources, or increased minor source activity. FL DEP included a statement in its April 3, 2015, submittal declaring that FL DEP is unaware of any plans for the growth of major sources in the Nassau Area, and that normal minor source growth should not significantly impact the Area. FL DEP further asserts that the NNSR program at Section 62-252.500, F.A.C., approved into the SIP and last updated on June 27, 2008 (see 73 FR 36435), would address any proposed new major sources or planned major modifications for SO2 sources.⁹ The NNSR program includes lowest achievable emissions rate, offsets, and public hearing requirements.

⁹ FL DEP acknowledges a minor source permit to construct a natural gas-fired combustion turbine cogeneration system within the Nassau nonattainment area located on the Rayonier property. The turbine would produce process steam for the co-located Rayonier plant which would generate up to 21 megawatts provided to the electrical grid. Because the turbine is natural-gas fired, maximum annual SO2 emissions would be less than 7 tons per year (tpy) and not subject to NNSR. FL DEP determined that these small SO2 emissions resulting from the new facility would not interfere with the attainment plan for the Nassau Area.

FL DEP provided a 2018 projected emissions inventory for all known sources included in the 2011 base year inventory, discussed previously, that were determined to impact the Nassau County NAA. The projected 2018 emissions in Table 2 are estimated actual emissions, representing a 21 percent reduction from the base year SO2 emissions. The point source emissions were estimated by multiplying the 2018 allowable emissions by the ratio of 2011 actual emissions to allowable emissions. Per the SO2 Nonattainment Guidance, the allowable emission limits that FL DEP is requesting EPA approve into the SIP as a control measure were modeled to show attainment. These allowable emission limits are higher than the projected actual emissions included in the future year inventory, and therefore offer greater level of certainty that the NAAQS will be protected under all operating scenarios. Emissions estimates for onroad sources were re-estimated with MOVES2014. The nonroad and area source emissions were scaled based on estimated population growth in the Nassau Area portion of Nassau County.

Table 2—Projected 2018 SO2 Emissions Inventory for the Nassau Area
[tpy]
Year | Point | Onroad | Nonroad | Area | Total
2011 | 4,278.64 | 0.08 | 0.09 | 0.39 | 4,279.20
2018 | 3,376.26 | 0.03 | 0.10 | 0.41 | 3,376.80

C. Air Quality Modeling

The SO2 attainment demonstration provides an air quality dispersion modeling analysis to demonstrate that control strategies chosen to reduce SO2 source emissions will bring the area into attainment by the statutory attainment date of October 4, 2018. The modeling analysis, outlined in Appendix W to 40 CFR part 51 (EPA's Modeling Guidance),¹⁰ is used for the attainment demonstration to assess the control strategy for a nonattainment area and establish emission limits that will provide for attainment. The analysis requires five years of meteorological data to simulate the dispersion of pollutant plumes from multiple point, area, or volume sources across the averaging times of interest. The modeling demonstration typically also relies on maximum allowable emissions from sources in the nonattainment area. Though the actual emissions are likely to be below the allowable emissions, sources have the ability to run at higher production rates or optimize controls such that emissions approach the allowable emissions limits. A modeling analysis that provides for attainment under all scenarios of operation for each source must therefore consider the worst case scenario of both the meteorology (e.g., predominant wind directions, stagnation, etc.) and the maximum allowable emissions.

¹⁰ 40 CFR part 51 Appendix W (EPA's Guideline on Air Quality Models) (November 2005) located at http://www3.epa.gov/ttn/scram/guidance/guide/appw_05.pdf. EPA has proposed changes to Appendix W. See 80 FR 45340 (July 29, 2015).

FL DEP's modeling analysis was developed in accordance with EPA's Modeling Guidance and the SO2 Nonattainment Guidance, and was prepared using EPA's preferred dispersion modeling system, the American Meteorological Society/Environmental Protection Agency Regulatory Model (AERMOD) consisting of the AERMOD (version 14134) model and two data input preprocessors AERMET (version 14134) and AERMAP (version 11103). AERMINUTE meteorological preprocessor and AERSURFACE surface characteristics preprocessor were also used to develop inputs to AERMET. The Building Profile Input Program for Plume Rise Model Enhancements (BPIP-PRIME) was also used in the downwash-modeling. More detailed information on the AERMOD Modeling system, and other modeling tools and documents can be found on the EPA Technology Transfer Network Support Center for Regulatory Atmospheric Modeling (SCRAM) (http://www3.epa.gov/ttn/scram/) and in Florida's April 3, 2015, SIP submittal in the docket for this proposed action (EPA-R04-OAR-2015-0623) on www.regulations.gov. A brief description of the modeling used to support Florida's attainment demonstration is provided later on.

1. Modeling Approach

The following is an overview of the air quality modeling approach used to demonstrate compliance with the 2010 SO2 NAAQS, as submitted in Florida's April 3, 2015, submittal. The basic procedures are outlined later in this preamble.

i. FL DEP developed model inputs using the AERMOD modeling system and processors.

The pre-processors AERMET and AERMINUTE were used to process five years (i.e., 2008-2012) of 1-minute meteorological data from the Jacksonville National Weather Service Office (NWS) at the Jacksonville International Airport, Jacksonville, Florida, surface level site, based on FL DEP's land use classifications, in combination with twice daily upper-air meteorological information from the same site. The Jacksonville International Airport is located approximately 28 km southeast from Nassau Area. The AERMOD pre-processor AERMAP was used to generate terrain inputs for the receptors, based on a digital elevation mapping database from the National Elevation Dataset developed by the U.S. Geological Survey. FL DEP used AERSURFACE to generate direction-specific land-use surface characteristics for the modeling. The BPIP-PRIME preprocessor was used to generate direction-specific building downwash parameters. FL DEP developed a Cartesian receptor grid across the nonattainment boundary (approximately 2.4 km around the violating monitor), with 100 meter spacing in ambient air to ensure maximum concentrations are captured in the analysis. All other input options were also developed commensurate with the Modeling Guidance.

Next, FL DEP selected a background SO2 concentration based on local SO2 monitoring data from monitoring station No. 12-089-0005 for the period January 2012 to December 2013. This background concentration from the nearby ambient air monitor is used to account for SO2 impacts from all sources that are not specifically included in the AERMOD modeling analysis. The data was obtained from the Florida Air Monitoring and Assessment System. This monitor is approximately 0.9 km to the southeast of Rayonier and 2.5 km south of WestRock. Due to its close proximity to the Rayonier facility, monitored concentrations at this station are strongly influenced by emissions from both facilities. As a result, the data was filtered to remove measurements where the wind direction could transport pollutants from Rayonier and WestRock to the station. More specifically, the data was filtered to remove measurements where hourly wind direction was between 263° to 61°.

ii. FL DEP performed current and post-control dispersion modeling using the EPA-approved AERMOD modeling system.

iii. Finally, FL DEP derived the 99th percentile maximum 1-hour daily SO2 design value across the five year meteorological data period.

EPA's SO2 nonattainment implementation guidance provides a procedure for establishing longer-term averaging times for SO2 emission limits (up to a 30-day rolling averaging time).¹¹ In conjunction with states' CAA obligation to submit SIPs that demonstrate attainment, EPA believes that air agencies that consider longer term average times for a SIP emission limit should provide additional justification for the application of such limits. This justification involves determining the “critical emission value” ¹² or the 1-hour emission limit that modeling found to provide for attainment and adjusting this rate downward to obtain a comparable stringency to the modeled 1-hour average emission limit. A comparison of the 1-hour limit and the proposed longer term limit, in particular an assessment of whether the longer term average limit may be considered to be of comparable stringency to a 1-hour limit at the critical emission value, is critical for demonstrating that any longer term average limits in the SIP will help provide adequate assurance that the plan will provide for attainment and maintenance of the 1-hour NAAQS. This allows states to develop control strategies that account for variability in 1-hour emissions rates through emission limits with averaging times that are longer than 1 hour, using averaging times as long as 30-days, and still demonstrate attainment of the 2010 SO2 NAAQS.

¹¹ FL DEP is following the SO2 Nonattainment Guidance on procedures for establishing emissions limits with averaging periods longer than 1 hour.

¹² The hourly emission rate that the model predicts would result in the 5-year average of the annual 99th percentile of daily maximum hourly SO2 concentrations at the level of the NAAQS.

EPA's recommended procedure for determining longer term averaging times, including calculating the adjustment factor between the 1-hour critical emission value and the equivalent 30-day rolling average emissions limit, is provided in Appendices B and C of the SO2 Nonattainment Guidance. EPA is proposing to conclude that FL DEP completed this analysis for both Rayonier and WestRock facilities to derive SIP emission limits with 3-hour longer-term averaging time that are comparatively stringent to the 1-hour limit. For more details, see Florida's April 3, 2015, SIP submittal.

2. Modeling Results

The SO2 NAAQS compliance results of the attainment modeling are summarized in Table 3 later on in this preamble. Table 3 presents the results from four sets of AERMOD modeling runs that were performed. The four modeling runs were the result of using an uncontrolled, or pre-modification, run and three different controlled, or post-modification, scenarios. Maximum allowable permitted emissions limits were used for the Nassau Area modeling demonstration. These emissions limits and other control measures were established in construction permits issued by FL DEP. The conditions have been incorporated in the latest title V permit renewal for Rayonier, and will be incorporated for WestRock upon future title V renewal. FL DEP is requesting that these emissions limits and operating conditions, detailed in Section IV.D. of this proposed rulemaking, be adopted into the SIP to become federally enforceable upon approval of the nonattainment plan, prior to the renewal of the title V operating permit for the WestRock facility. The three post-control runs help to identify the worst possible scenario of emissions distributions between the two units EUs 007 and 011 (recovery boilers) at the WestRock facility. Under one modeling scenario, an emissions cap of 300 pounds per hour (lb/hr) SO2 for WestRock EUs 007 and 011 is allotted equally between the recovery boilers. For the two remaining scenarios, the entire 300 lb/hr cap is allotted totally for EU 007 or EU 011, assuming that only one recovery boiler is operating.

The modeling utilized five years (2008-2012) of meteorological data from the NWS site in Jacksonville, Florida, as processed through AERMET, AERMINTE and AERSURFACE. This procedure was used since this site represented the nearest site with complete data.

Table 3 shows that the maximum 1-hour average across all five years of meteorological data (2008-2012) is less than or equal to the 2010 SO2 NAAQS of 75 ppb for all three sets of AERMOD modeling runs. For more details, see Florida's April 3, 2015 SIP submittal.

Table 3—Maximum Modeled SO2 Impacts in the Nassau Area, Micrograms per Cubic Meter (ppb)¹³
Model scenario | Averaging time | Maximum predicted impact: Rayonier | Maximum predicted impact: WestRock | Background | Total | SO2 NAAQS
Pre-modification | 1-hour | ¹⁴ 0.0 | 2957.80 (1128) | 4.19 (1.6) | 2961.99 (1130) | 196. 4 (75)
Equal Cap Distribution | 1-hour | 114.45 (43.7) | 67.69 (25.8) | 10.72 (4.09) | 192.87 (73.6)
Entire Cap—EU 007 | 1-hour | 110.93 (42.3) | 71.56 (27.3) | 9.16 (3.5) | 191.65 (73.1)
Entire Cap—EU 011 | 1-hour | 117.51 (44.8) | 63.79 (24.3) | 12.82 (4.9) | 194.11 (74.0)

The pre-control analysis resulted in a predicted impact of 1130 ppb. The post-control analysis resulted in a worst-case predicted impact of 74.0 ppb. EPA is preliminarily determining that this data indicates sufficient reductions in air quality impact with the future implementation of the post-construction control plan for the Rayonier and WestRock facilities. Furthermore, EPA is preliminarily concluding that this data also supports FL DEP's analysis that the controls for Rayonier represent RACM and RACT for the SIP. The control strategy for Rayonier, as reflected in its Air Permit No. 0890004-036-AC, includes increasing a stack height for Rayonier EU 005, a vent scrubber, from 110 feet (ft) to at least 165 ft, and plans to extend another stack at a power boiler (Rayonier EU 022) if needed; ¹⁵ and lowering the allowable SO2 emissions for the power boiler (Rayonier EU 006), recovery boiler (Rayonier EU 022), and vent gas scrubber system (Rayonier EU 005). The result of increasing a stack height is that the plume has a better opportunity for greater dispersion across an area, minimizing stagnation and local impacts from higher concentrations, primarily due to the avoidance of building downwash effects.¹⁶ Rayonier's allowable SO2 emissions (total from all three controlled units) will be reduced from 836.5 lb/hr to 502.3 lb/hr representing a 40 percent emission decrease. The state issued a revised title V permit (No. 0890004-042-AV) to incorporate the Rayonier Permit and authorize Rayonier to operate in accordance with those conditions.

¹³ The April 3, 2015, final submittal contained typographical errors in its summary modeling table. On April 8, 2016, FL DEP provided EPA Region 4 with corrected numbers. FL DEP in no way revised the modeling demonstration nor the results inherent in the April 3, 2015, submittal. The correspondence and clarifying information is provided in the Docket for this proposed action.

¹⁴ The “0” impact from Rayonier indicates that the worst case scenario was at a time when WestRock was impacting the area of maximum concentration because the wind was coming from the direction of WestRock. Rayonier impacts other receptors in the nonattainment area and may impact this same receptor at other times, as can be seen with the remainder of the modeling demonstration.

¹⁵ The final stack height for the vent gas scrubber system (Rayonier EU 005) is 180 ft. The construction permit contained options for the power boiler (Rayonier EU 022) to meet a moderately lower emission limit paired with an increased stack height, or an even lower emission limit on the unit and maintaining the existing stack height. The stack height for EU 022 was not increased, as Rayonier selected the lower emission limit option.

¹⁶ See EPA's June 1985 guidance document, “Guideline for Determination of Good Engineering Practice Stack Height (Technical Support Document For the Stack Height Regulations),” which can be found at: http://www3.epa.gov/scram001/guidance/guide/gep.pdf.

The control strategy for WestRock, as reflected in its Air Permit No. 0890003-046-AC, includes the following operational changes to the four largest SO2-emitting units: Improved combustion at WestRock EUs 007 and 011, the two recovery boilers, and emissions limits on WestRock EUs 006, 015, 007 and 011, the two power boilers and two recovery boilers. Florida will incorporate the new physical and operational changes for WestRock into its title V permit upon renewal. The title V permit is scheduled to be renewed by March 17, 2017. WestRock's allowable SO2 emissions from WestRock EU 006, the power boiler No. 5, will be reduced from 550 lb/hr to 15 lb/hr representing a 97 percent emission decrease. The modeling results included in Table 3 prove that WestRock should be included in the considerations of controls for the following reasons: (1) If both facilities were left uncontrolled, as presented in the first modeled scenario, WestRock would have the greater impact on the area of maximum concentration within the Nassau Area; and (2) with the worst possible post-control modeling scenario, 35 percent of the total predicted impact on the Nassau Area would stem from WestRock. Therefore, if no controls were implemented at WestRock, the Area would not likely attain and maintain the 2010 SO2 NAAQS. All emissions limits and related compliance parameters have been proposed for incorporation into the SIP to make these changes federally enforceable. More details on the pre- and post-construction operations at the facilities are included in the Florida SIP submission. FL DEP asserts that the proposed control strategy significantly lowers the modeled SO2 impacts from the WestRock facility and is sufficient for the Nassau Area to attain 2010 SO2 NAAQS.

EPA has reviewed the modeling that Florida submitted to support the attainment demonstration for the Nassau Area and has preliminarily determined that this modeling is consistent with CAA requirements, Appendix W and EPA's guidance for SO2 attainment demonstration modeling.

D. RACM/RACT

CAA section 172(c)(1) requires that each attainment plan provides for the implementation of all reasonably available control measures as expeditiously as practicable and attainment of the NAAQS. EPA interprets RACM, including RACT, under section 172, as measures that a state determines to be both reasonably available and contribute to attainment as expeditiously as practicable “for existing sources in the area.”

Florida's analysis is found in Section 3 of the FL DEP attainment demonstration within the April 3, 2015, SIP submittal. The State determined that controls for SO2 emissions at Rayonier are appropriate in the Nassau Area for purposes of attaining the 2010 SO2 NAAQS. Florida only completed a RACM/RACT analysis for Rayonier since it is the only such point source within the boundaries of the nonattainment area. FL DEP included WestRock in its attainment and impact modeling because of the source's proximity to the Nassau Area (within 5 km) and its likelihood of contributing to violations of the SO2 NAAQS within the area. In a modeling-based attainment demonstration, the means of considering impacts of sources outside the nonattainment area would depend on whether the sources cause significant concentration gradients. Florida proposed a control strategy for the WestRock facility, but does not assert that those controls constitute “the lowest emission limitation that a particular source is capable of meeting by the application of control technology that is reasonably available considering technological and economic feasibility” ¹⁷ because section 172(c)(1) provides for the implementation of RACT for existing sources in the area. However, an analysis of attainment needs to consider all potential sources, both inside and outside the nonattainment area that could reasonably cause or contribute to violations of the NAAQS within the area. FL DEP affirms the implementation of controls at WestRock significantly lowers the modeled SO2 impact from the facility and is sufficient to attain 2010 SO2 NAAQS in the Nassau Area. The control measures at both sources are summarized later on in this preamble.

¹⁷ Strelow, Roger. “Guidance for Determining the Acceptability of SIP Regulations in Non-Attainment Areas.” Memo to Regional Administrators. Office of Air and Waste Management, Environmental Protection Agency. Washington, DC December 9, 1976. Located at: http://www.epa.gov/ttn/naaqs/aqmguide/collection/cp2/19761209_strelow_ract.pdf.

On April 12, 2012, FL DEP issued construction Air Permit No. 0890004-036-AC to Rayonier for additional proposed control measures to reduce SO2 emissions. The specified limits and conditions from this construction permit, adopted into the title V operating permit on May 30, 2014, reflecting RACT controls, are included in the April 3, 2015, SIP submittal for incorporation into the SIP. In accordance with the schedule in the permit, Rayonier was required to implement the controls on or before December 31, 2014. FL DEP reported in its SIP submittal that as of the second quarter of 2014, Rayonier has completed implementation of the RACT controls listed in the permit and summarized in Table 4:

¹⁸ Information pulled from the April 3, 2015 submittal, in which the original construction permit is included. None of these changes authorize an increased production rate at the facility.

¹⁹ See previous discussion on longer-term emission limits. For more information, see the April 3, 2015 submittal.

²⁰ Rayonier considered two emissions limits: 180 lb/hr SO2 at the current stack height of 190 ft; or 250 lb/hr SO2 if the stack height were increased to 210 ft. The final limit is 180 lb/hr as the stack height was not increased.

Table 4—Summary of RACT Controls for Rayonier ¹⁸
Description of measure | Explanation
Rayonier EU 005: The vent gas scrubber system at this unit undergoes construction to increase the stack height and an operational change to meet an enforceable emission limit | Rayonier was authorized to construct a new stack for the vent gas scrubber system, increasing the stack height from the existing level of 110 ft to at least 165 ft. The as-built stack height is 180 ft.
| Rayonier has a new emission limitation, lowering the allowable SO2 from 250 parts per million (ppm) to 100 ppm as a 3-hour rolling average.¹⁹ This emission limit was incorporated into the title V operating permit and is proposed for incorporation into the SIP.
Rayonier EU 006: The recovery boiler undergoes an operational change to meet an enforceable emission limit | Rayonier has a new emission limitation, lowering the allowable SO2 from 300 parts per million by volume, dry basis (ppmvd) to 250 ppmvd as a 3-hour rolling average. This emission limit was incorporated into the title V operating permit and is proposed for incorporation into the SIP.
Rayonier EU 022: The power boiler undergoes an operational change to meet an enforceable emission limit | Rayonier has a new emission limitation of 180 lb/hour SO2 as a 3-hour rolling average.²⁰ This emission limit was incorporated into the title V operating permit and is proposed for incorporation into the SIP.

On January 9, 2015, construction Air Permit No. 0890003-046-AC was issued to WestRock for additional proposed control measures to reduce SO2 emissions. The specified limits and conditions from this construction permit are to be adopted into the title V operating permit upon renewal, and are intended to supplement the RACT adopted for Rayonier in the Nassau Area to help with attainment and maintenance of the 2010 SO2 NAAQS. These controls are included in the April 3, 2015, SIP submittal for incorporation into the SIP. The SO2 Nonattainment Guidance discusses an anticipated control compliance date of January 1, 2017. Areas that implement attainment plan control strategies by this date are expected to be able to show a year of quality-assured air monitoring data showing attainment of the NAAQS and a year of compliance information, which when modeled, would also show attainment of the NAAQS. In accordance with the schedule in the construction permit, WestRock is required to implement the controls on or before January 1, 2018. This date, though later than the date suggested in the SO2 Nonattainment Guidance, provides for 9 months of compliance information by the October 4, 2018 attainment date, including a semiannual compliance report in July 2018. Additionally, the Nassau Area is currently showing an attaining design value for 2013-2015, which means that attainment of the NAAQS is as expeditious as practicable. The supplemental control measures at WestRock are summarized in Table 4:

Table 4—Summary of Supplemental Control Measures for WestRock
Description of measure | Explanation
WestRock EU 006: ²¹ The power boiler undergoes an operational change to meet an enforceable emission limit | As of January 1, 2016, WestRock is required to comply with a 15.0 lb/hr emission limitation as a 3-hour block average for SO2, except during times when this unit is operated as a back-up control device for NCGs. By December 1, 2017, WestRock will have a lower emission limitation of 15.0 lb/hr SO2 during all periods of operation as a 3-hour block average and the unit will no longer operate as a back-up control device for NCGs. This limit will be incorporated into the title V operating permit upon scheduled renewal and is proposed for incorporation into the SIP.
WestRock EU 015: ²² The power boiler undergoes an operational change to meet an enforceable emission limit | As of January 31, 2016, WestRock is required to comply with an emission limitation of 1225.20 lb/hr SO2 during all periods of operation as a 3-hour block average, determined via stack testing. By December 1, 2017, WestRock will show compliance with the 1225.20 lb/hr SO2 emission limitation via newly installed CEMS. This limit will be incorporated into the title V operating permit upon scheduled renewal and is proposed for incorporation into the SIP.
WestRock EUs 007 and 011: The recovery boilers undergo operational changes to limit fuel oil use and meet individual and combined enforceable emissions limits | By January 1, 2018, WestRock will only be allowed to use ultra-low sulfur diesel during periods of fuel oil usage. By this date, WestRock will have a new emission limitation of 150.0 lb/hr SO2 for each independent recovery boiler during all periods of operation as a 3-hour block average. Compliance with the SO2 emissions standard shall be demonstrated by data collected from a certified CEMS ²³. Alternatively, WestRock can comply with a collective emissions limit across the two recovery boilers of 300.0 lb/hr SO2 as a 3-hour block average, as determined only by CEMS. The selected limit will be incorporated into the title V operating permit upon scheduled renewal and both options are proposed for incorporation into the SIP.

EPA is proposing to approve Florida's determination that the proposed controls for SO2 emissions at Rayonier constitute RACM/RACT for that source in the Nassau Area based on the analysis described previously. Additionally, EPA proposes to approve Florida's determination that the supplemental control measures initiated at WestRock help to bring the area into attainment of the 2010 SO2 NAAQS as expeditiously as practicable. Further, EPA determines that no further controls would be required at Rayonier, and that the proposed controls are sufficient for RACM/RACT purposes for the Nassau Area at this time. EPA, therefore, proposes to approve Florida's April 3, 2015, SIP submission as meeting the RACM/RACT requirements of the CAA. In addition, by approving the RACM/RACT for Rayonier, and the supplemental control measures for WestRock, for the purposes of Florida's attainment planning, the control measures outlined in Tables 3 and 4 will become permanent and enforceable SIP measures to meet the requirements of the CAA.

²¹ Additional controls not requested for incorporation into the SIP for WestRock EU 006 include the elimination of fuel oil usage as of January 31, 2016, and the elimination of operation as a back-up control for NCGs. The latter is not a direct control measure for SO2, but means that the power boiler will not fire recovered process vapors.

²² An additional control not requested for incorporation into the SIP for WestRock EU 015 is the installation of a white liquor scrubber system upstream to remove total reduced sulfur from the incoming NCG stream. WestRock EU 015 operates as a back-up control device for NCGs is not part of the SO2 attainment strategy, but compliance with 40 CFR 63, Subpart S. The addition of the scrubber system is to prevent any additional sulfur load to the power boiler. WestRock EU 015 will be required to comply with the SIP emission limit regardless of how it is used with respect to the control of NCGs.

²³ FL DEP also acknowledges that parametric methods other than CEMS may be considered, subject to approval, to demonstrate compliance with the individual boiler emission limit of 150 lb/hr SO2 limit.

Based on FL DEP's modeling demonstration, the Nassau Area is projected to begin showing attaining monitoring values for the 2010 SO2 NAAQS by the 2018 attainment date. Currently, monitored design values are complying with the 2010 SO2 NAAQS. As noted previously, some of the control measures at WestRock will not be in place for a full year prior to the attainment date as recommended in the 2014 SO2 Nonattainment Guidance; a recommendation intended to provide data to evaluate the effect of the control strategy on air quality. Because the Area is currently attaining the 2010 SO2 NAAQS, EPA proposes to find that the full control strategy will be in place for an adequate time prior to the attainment date to ensure attainment of the NAAQS. Furthermore, FL DEP has already implemented RACT controls for sources within the Nassau Area, as the RACT project was completed at Rayonier in 2014, long before the suggested 2017 date.

E. RFP Plan

Section 172(c)(2) of the CAA requires that an attainment plan includes a demonstration that shows reasonable further progress for meeting air quality standards will be achieved through generally linear incremental improvement in air quality. Section 171(1) of the Act defines RFP as “such annual incremental reductions in emissions of the relevant air pollutant as are required by this part (part D) or may reasonably be required by EPA for the purpose of ensuring attainment of the applicable NAAQS by the applicable attainment date.” As stated originally in the 1994 SO2 Guideline Document ²⁴ and repeated in the 2014 SO2 Nonattainment Guidance, EPA continues to believe that this definition is most appropriate for pollutants that are emitted from numerous and diverse sources, where the relationship between particular sources and ambient air quality are not directly quantified. In such cases, emissions reductions may be required from various types and locations of sources. The relationship between SO2 and sources is much more defined, and usually there is a single step between pre-control nonattainment and post-control attainment. Therefore, EPA interpreted RFP for SO2 as adherence to an ambitious compliance schedule in both the 1994 SO2 Guideline Document and the 2014 SO2 Nonattainment Guidance. The control measures for attainment of the 2010 SO2 NAAQS included in the State's submittal have been modeled to achieve attainment of the NAAQS. The permits and the adoption of specific emissions limits and compliance parameters require these control measures and resulting emissions reductions to be achieved as expeditiously as practicable. As a result of an ambitious compliance schedule, projected to yield a sufficient reduction in SO2 emissions from the Rayonier and WestRock facilities, and resulting in modeled attainment of the SO2 NAAQS, EPA has preliminarily determined that FL DEP's SO2 attainment plan for the 2010 SO2 NAAQS fulfills the RFP requirements for the Nassau Area. Furthermore, currently the monitored SO2 design value for the Nassau Area is below the NAAQS, and because of the modeled attainment with the selected control strategies, EPA does not anticipate future nonattainment, or that the Area will not meet the statutory October 4, 2018, attainment date. EPA therefore proposes to approve Florida's attainment plan with respect to the RFP requirements.

²⁴ SO2 Guideline Document, U.S. Environmental Protection Agency, Office of Air Quality Planning and Standards, Research Triangle Park, N.C. 27711, EPA-452/R-94-008, February 1994. Located at: http://www.epa.gov/ttn/oarpg/t1pgm.html.

F. Contingency Measures

In accordance with section 172(c)(9) of the CAA, contingency measures are required as additional measures to be implemented in the event that an area fails to meet the RFP requirements or fails to attain a standard by its attainment date. These measures must be fully adopted rules or control measures that can be implemented quickly and without additional EPA or state action if the area fails to meet RFP requirements or fails to meet its attainment date and should contain trigger mechanisms and an implementation schedule. However, SO2 presents special considerations. As stated in the final 2010 SO2 NAAQS promulgation on June 22, 2010 (75 FR 35520) and in the 2014 SO2 Nonattainment Guidance, EPA concluded that because of the quantifiable relationship between SO2 sources and control measures, it is appropriate that state agencies develop a “comprehensive program to identify sources of violations of the SO2 NAAQS and undertake an aggressive follow-up for compliance and enforcement.”

Based on all the control measures that are completed for Rayonier and planned for WestRock, FL DEP believes that the 2010 SO2 NAAQS can be achieved on a consistent basis. However, if a fourth exceedance of the SO2 NAAQS occurs during any calendar year, or upon a determination that the Nassau Area has failed to attain the NAAQS by the attainment date, Rayonier and WestRock will immediately undertake full system audits of controlled SO2 emissions. Within 10 days, each source will independently submit a report to FL DEP summarizing all operating parameters for four 10-day periods up to and including the dates of the exceedances. These sources are required to deploy provisional SO2 emission control strategies within this 10-day period and include “evidence that these control strategies have been deployed, as appropriate” in the report to FL DEP. FL DEP will then begin a 30-day evaluation of these reports to determine the cause of the exceedances, followed by a 30-day consultation period with the sources to develop and implement appropriate operational changes needed to expeditiously to prevent any future violation of the NAAQS. Explicit measures addressed in Florida's April 3, 2015, SIP submittal are:

• Fuel switching to reduce or eliminate the use of sulfur-containing fuels;

• combustion air system enhancement;

• vent gas scrubber enhancement;

• white liquor scrubber enhancement; and/or

• physical or operational reduction of production capacity.

Florida may consider other options for additional controls if these measures are not deemed to be the most appropriate to address air quality issues in the Area.

Florida would implement the most appropriate control strategy to address the exceedances. If a permit modification might be required to conform to applicable air quality standards, Florida will make use of the State's authority in Rule 62-4.080, F.A.C. to require permittees to comply with new or additional conditions. This authority would allow Florida to work directly with the source(s) expeditiously to make changes to permits. Subsequently, Florida would submit any relevant permit change to EPA as a source-specific SIP revision to make the change permanent and enforceable. EPA recognizes this strategy as an acceptable additional step, but according to CAA section 172(c)(9), a measure requiring further action by FL DEP or EPA (e.g., necessitating a revised permit and SIP revision) could not serve as the primary contingency measure.

EPA is proposing to find that Florida's April 3, 2015, SIP submittal includes a comprehensive program to expeditiously identify the source of any violation of the SO2 NAAQS and for aggressive follow-up. Therefore, EPA proposes that the contingency measures submitted by Florida follow the 2014 SO2 Nonattainment Guidance and meet the section 172(c)(9) . EPA notes that Florida has further committed to pursue additional actions that may require a SIP revision if needed to address the exceedances.

G. Attainment Date

Florida's modeling indicates that the Nassau Area will begin attaining the 2010 SO2 NAAQS by January 1, 2018, once the control strategy is completely implemented. This modeling does not provide for an attaining three-year design value by the proposed attainment date of October 4, 2018. However, expeditious implementation of RACM/RACT for the Rayonier source, coupled with actual emissions from the WestRock source, has already provided for an attaining design value of 58 ppb considering 2013-2015 data, and in fact exhibited attaining data since 2011-2013 with a design value of 70 ppb.²⁵ The recent design value is well under the NAAQS, and the ongoing compliance schedule for WestRock control measures will help to assure that the area maintains the NAAQS in the future. Therefore, the area is expected to attain the NAAQS by the attainment date.

²⁵ The most recent quality-assured design values for each NAAQS are publicly available at https://www.epa.gov/air-trends/air-quality-design-values.

V. Proposed Action

EPA is proposing to approve Florida's SO2 attainment plan for the Nassau Area. EPA has preliminarily determined that the SIP meets the applicable requirements of the CAA. Specifically, EPA is proposing to approve Florida's April 3, 2015, SIP submission, which includes the base year emissions inventory, a modeling demonstration of SO2 attainment, an analysis of RACM/RACT, a RFP plan, and contingency measures for the Nassau Area. Additionally, EPA is proposing to approve into the Florida SIP specific SO2 emission limits and compliance parameters established for the two SO2 point sources impacting the Nassau Area.

VI. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this proposed action merely approves state law as meeting federal requirements and does not impose additional requirements beyond those imposed by state law. For that reason, this proposed action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Reporting and recordkeeping requirements, Sulfur oxides.

Authority: 42 U.S.C. 7401 et seq.

Dated: August 15, 2016.
Heather McTeer Toney,
Regional Administrator, Region 4.

[FR Doc. 2016-20119 Filed 8-22-16; 8:45 am]

BILLING CODE 6560-50-P